DEPARTMENT OF TRANSPORTATION

Federal Aviation Administration

14 CFR Part 39

[Docket No. 2002-NM-57-AD]

RIN 2120-AA64

Airworthiness Directives; Airbus Model A319 and A320 Series Airplanes Equipped With Elevator and Aileron Computer (ELAC) L80 Standard

AGENCY: Federal Aviation Administration, DOT.

ACTION: Notice of proposed rulemaking (NPRM).

SUMMARY: This document proposes the supersedure of an existing airworthiness directive (AD), applicable to certain Airbus Model A319 and A320 series airplanes, that currently requires revising the airplane flight manual to specify procedures for landing under certain conditions of gusty winds and turbulence. This action would require replacement of both Elevator and Aileron Computers (ELACs) having L80 standards with new ELACs having L81 standards, which would terminate the requirements of the existing AD. The actions specified by the proposed AD are intended to prevent activation of the high angle-of-attack protection during final approach for landing, which could result in loss of ability to flare properly during landings. This action is intended to address the identified unsafe condition.

DATES: Comments must be received by October 20, 2003.

ADDRESSES: Submit comments in triplicate to the Federal Aviation Administration (FAA), Transport Airplane Directorate, ANM-114, Attention: Rules Docket No. 2002-NM-57-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2002-NM-57-AD” in the subject line and need not be submitted in triplicate. Comments sent via the Internet as attached electronic files must be formatted in Microsoft Word 97 or 2000 or ASCII text.

The service information referenced in the proposed rule may be obtained from Airbus Industrie, 1 Rond Point Maurice Bellonte, 31707 Blagnac Cedex, France. This information may be examined at the FAA, Transport Airplane Directorate, 1601 Lind Avenue, SW., Renton, Washington.

FOR FURTHER INFORMATION CONTACT: Tim Dulin, Aerospace Engineer, International Branch, ANM-116, FAA, Transport Airplane Directorate, 1601 Lind Avenue, SW., Renton, Washington 98055-4056; telephone (425) 227-2141; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2002-NM-57-AD.” The postcard will be date stamped and returned to the commenter.

Availability of NPRMs

Any person may obtain a copy of this NPRM by submitting a request to the FAA, Transport Airplane Directorate, ANM-114, Attention: Rules Docket No. 2002-NM-57-AD, 1601 Lind Avenue, SW., Renton, Washington 98055-4056.

Discussion

On April 19, 2001, the FAA issued AD 2001-08-26, amendment 39-12203 (66 FR 20912, April 26, 2001), applicable to certain Airbus Model A319 and A320 series airplanes, to require revising the airplane flight manual to specify procedures for landing under certain conditions of gusty winds and turbulence. That action was prompted by a report of a hard landing on a Model A320 series airplane equipped with ELAC L80 standard, which was caused by activation of the high angle-of-attack protection during a landing in gusty winds and turbulence. The requirements of that AD are intended to prevent activation of the high angle-of-attack protection during final approach for landing, which could result in loss of ability to flare properly during landings.

Actions Since Issuance of Previous Rule

In the preamble to AD 2001-08-26, we specified that we considered the requirements “interim action” and that the manufacturer was developing a modification to address the unsafe condition. That AD explained that we may consider further rulemaking if a modification is developed, approved, and available. The manufacturer now has developed such a modification, and we have determined that further rulemaking is indeed necessary; this proposed AD follows from that determination.

Explanation of Relevant Service Information

Airbus has issued Service Bulletin A320-27-1135, dated June 29, 2001, which describes procedures for replacement of both Elevator and Aileron Computers (ELACs) having L80 standards with new ELACs having L81 standards. The procedures also describe testing the ELACs after replacement. The Direction Générale de l'Aviation Civile (DGAC), which is the airworthiness authority for France, classified this service bulletin as mandatory and issued French airworthiness directive 2001-508(B), dated October 17, 2001, in order to assure the continued airworthiness of these airplanes in France.

FAA's Conclusions

These airplane models are manufactured in France and are type certificated for operation in the United States under the provisions of section 21.29 of the Federal Aviation Regulations (14 CFR 21.29) and the applicable bilateral airworthiness agreement. Pursuant to this bilateral airworthiness agreement, the DGAC has kept the FAA informed of the situation described above. We have examined the findings of the DGAC, reviewed all available information, and determined that AD action is necessary for products of this type design that are certificated for operation in the United States.

Explanation of Requirements of Proposed Rule

Since an unsafe condition has been identified that is likely to exist or develop on other airplanes of the same type design registered in the United States, the proposed AD would supersede AD 2001-08-26 to continue to require revising the airplane flight manual to specify procedures for landing under certain conditions of gusty winds and turbulence. The proposed AD also would require replacement of both ELACs having L80 standards with new ELACs having L81 standards, which would terminate the requirements of the existing AD. The actions would be required to be accomplished in accordance with the service information described previously.

Changes to 14 CFR Part 39/Effect on the Proposed AD

On July 10, 2002, we issued a new version of 14 CFR part 39 (67 FR 47997, July 22, 2002), which governs our airworthiness directives system. The regulation now includes material that relates to altered products, special flight permits, and alternative methods of compliance (AMOCs). Because we have now included this material in part 39, only the office authorized to approve AMOCs is identified in each individual AD.

Change to Labor Rate-Estimate

We have reviewed the figures we have used over the past several years to calculate AD costs to operators. To account for various inflationary costs in the airline industry, we find it necessary to increase the labor rate used in these calculations from $60 per work hour to $65 per work hour. The cost impact information, below, reflects this increase in the specified hourly labor rate.

Cost Impact

There are approximately 350 airplanes of U.S. registry that would be affected by this proposed AD.

The AFM revision currently required by AD 2001-08-26 takes approximately 1 work hour per airplane to accomplish, at an average labor rate of $65 per work hour. Based on these figures, the cost impact of the currently required actions on U.S. operators is estimated to be $22,750, or $65 per airplane.

The new replacement proposed in this AD action would take approximately 1 work hour per airplane to accomplish, at an average labor rate of $65 per work hour. Required parts would be provided by the manufacturer at no cost to operators. Based on these figures, the cost impact of the proposed replacement on U.S. operators is estimated to be $22,750, or $65 per airplane.

The cost impact figures discussed above are based on assumptions that no operator has yet accomplished any of the current or proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-12203 (66 FR 20912, April 26, 2001), and by adding a new airworthiness directive (AD), to read as follows:

Airbus: Docket 2002-NM-57-AD. Supersedes AD 2001-08-26, amendment 39-12203

.

Applicability: Model A319 and A320 series airplanes; certificated in any category; equipped with Elevator and Aileron Computer (ELAC) L80 Standard having part numbers listed in Airbus Service Bulletin A320-27-1135, dated June 29, 2001.

Compliance: Required as indicated, unless accomplished previously.

To prevent activation of the high angle-of-attack protection during final approach for landing, which could result in loss of the ability to flare properly during landings, accomplish the following:

Restatement of Requirements of AD 2001-08-26

Revision of Airplane Flight Manual (AFM)

(a) Within 10 days after May 11, 2001 (the effective date of AD 2001-08-26, amendment 39-12203): Revise the Limitations Section of the AFM to incorporate the following procedures. This may be accomplished by inserting a copy of this AD into the AFM. This action is required until accomplishment of paragraph (b) of this AD.

“FOR APPROACH TO RUNWAYS WITH KNOWN GUSTY ENVIRONMENT, ESPECIALLY IF THESE CONDITIONS GENERATE VERTICAL GUSTS DUE TO THE SURROUNDING TERRAIN,

OR

—REPORTED GUST WIND INCREMENT (MAX. WIND MINUS AVERAGE WIND) HIGHER THAN 10 KT,

OR

—EXPECTED MODERATE TO SEVERE TURBULENCE ON SHORT FINAL,

THE FLIGHT CREW SHOULD STRICTLY ADHERE TO THE FOLLOWING PROCEDURE:

—USE CONF 3 FOR APPROACH AND LANDING,

—MINIMUM VAPP IS VLS + 10 KT; THE RECOMMENDATION TO USE MANAGED SPEED REMAINS VALID,

—CORRECT THE LANDING DISTANCE FOR THE SPEED INCREMENT,

—IF “SINK RATE” GPWS WARNING OCCURS BELOW 200 FT, IMMEDIATELY INITIATE A GO AROUND.”

New Requirements of This AD

Replacement

(b) Within 1 year after the effective date of this AD: Replace both Elevator and Aileron Computers (ELACs) having L80 standards with new ELACs having L81 standards, by doing all the actions per paragraphs A., B., C., and D. of the Accomplishment Instructions of Airbus Service Bulletin A320-27-1135, dated June 29, 2001. Accomplishment of this replacement ends the requirements in paragraph (a) of this AD.

Part Installation

(c) As of the effective date of this AD, no person may install on any airplane an ELAC having a part number listed in the “Old Part Number” column in the table specified in paragraph 2.C., “List of Components,” of Airbus Service Bulletin A320-27-1135, dated June 29, 2001.

Alternative Methods of Compliance

(d)(1) In accordance with 14 CFR 39.19, the Manager, International Branch, ANM-116, FAA, Transport Airplane Directorate, is authorized to approve alternative methods of compliance for this AD.

(2) Alternative methods of compliance, approved previously per AD 2001-08-26, amendment 39-12203, are approved as alternative methods of compliance with paragraph (a) of this AD.

Note 1: The subject of this AD is addressed in French airworthiness directive 2001-508(B), dated October 17, 2001.

Issued in Renton, Washington, on September 12, 2003.
Ali Bahrami,
Acting Manager, Transport Airplane Directorate, Aircraft Certification Service.

[FR Doc. 03-23832 Filed 9-17-03; 8:45 am]

BILLING CODE 4910-13-P